NATIONAL SCIENCE FOUNDATION

Notice of Intent To Seek Approval To Establish an Information Collection

AGENCY: National Science Foundation.

ACTION: Notice and request for comments.

SUMMARY: The National Science Foundation (NSF) is announcing plans to request establishment and clearance of this collection. In accordance with the requirements of the Paperwork Reduction Act of 1995, we are providing opportunity for public comment on this action. After obtaining and considering public comment, NSF will prepare the submission requesting that OMB approve clearance of this collection for no longer than one year.

DATES: Written comments on this notice must be received by July 17, 2018 to be assured of consideration. Comments received after that date will be considered to the extent practicable.

For Additional Information, Contact: Suzanne H. Plimpton, Reports Clearance Officer, National Science Foundation, 2415 Eisenhower Avenue, Room W 18000, Alexandria, Virginia 22314; or send email to splimpto@nsf.gov. Individuals who use a telecommunications device for the deaf (TDD) may call the Federal Information Relay Service (FIRS) at 1-800-877-8339, which is accessible 24 hours a day, 7 days a week, 365 days a year (including federal holidays).

Instructions: Please submit one copy of your comments by only one method. All submissions received must include the agency name and collection name identified above for this information collection. Commenters are strongly encouraged to transmit their comments electronically via email. Comments, including any personal information provided become a matter of public record. They will be summarized and/or included in the request for Office of Management and Budget approval of the information collection request.

SUPPLEMENTARY INFORMATION:

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; (d) ways to minimize the burden of the collection of information on those who are to respond, including through the use of appropriate automated, electronic, mechanical, or other technological collection techniques or other forms of information technology.

Title of Collection: Evaluation of the Centers for Chemical Innovation (CCI) Program Surveys and Interviews.

OMB Number: 3145-NEW.

Expiration Date of Approval: Not applicable.

Abstract

The National Science Foundation (NSF) seeks to conduct new data collection activities, consisting of deploying two surveys and four interview protocols, that will provide critical evidence needed for the Evaluation of the Chemical Centers for Innovation.

The National Science Foundation established the Centers for Chemical Innovation (CCI) Program (formerly known as Chemical Bonding Centers) in 2004 to support research centers focused on major, long-term fundamental chemical research challenges. The goals that NSF set forth for the CCI Program include that Centers will (a) produce transformative research, leading to innovation, and attract broad scientific and public interest; (b) be agile structures that can respond rapidly to emerging opportunities through enhanced collaborations; and (c) integrate research, innovation, education, broaden participation, and informal science communication.

The NSF Division of Chemistry has undertaken a comprehensive assessment to evaluate the effectiveness of the Centers for Chemical Innovation (CCI) program—with specific focus on its investment in Phase 2 Centers—in achieving its stated goals. As this is the first assessment of the CCI program, new data collection is necessary to provide critical evidence to assess the CCI Program's progress in achieving its goals, to communicate the outcomes of the program, and to inform improvements in CCI Program and Center-level design and operation. Across the NSF, the evaluation will also inform planning decisions about the center concept and funding mechanisms. Additionally, the evaluation findings will be used to communicate the outcomes of the CCI program to the wider chemistry community.

The new data collection consists of the following four new data collection activities:

1. CCI Principal Investigator (PI) and Co-Investigator (Co-I) Survey. Administration of a survey to CCI PIs and Co-Investigators is necessary to understand the role of the Center in research, collaboration, and broader impacts; to assess grantee satisfaction with the center structure, management, and a two-phase funding model; to document outcomes; and to describe the challenges encountered. The survey was previously tested under a Fast Track clearance, OMB Control #3145-0215.

2. CCI Phase 2 Principal Investigator (PI) and Co-Investigator (Co-I) Interview. Interviews with CCI Phase 2 PIs and a sample of Co-Investigators are necessary to further explore the data that emerge from the survey of CCI Phase 2 Center PIs and Co-Investigators.

3. CCI Graduate Student and Postdoctoral Researcher Survey. Administration of a survey to CCI graduate students and postdoctoral researchers are needed to understand the role of CCI in education, training, and career development. The survey was previously tested under a Fast Track clearance, OMB Control #3145-0215.

4. CCI Center Industry Partners Interview. Interviews with CCI Center industry partners are necessary to explore innovation-related knowledge exchange with Centers, other benefits of partnership, as well as perspectives on CCI contributions to chemistry and society.

Estimate of Burden

The CCI Principal Investigators (PI) and Co-Investigator (Co-I) Survey is expected to approximately 20 minutes each to complete. The CCI Graduate Student and Postdoctoral Researcher Survey is expected to approximately 15 minutes each to complete.

Interviews with CCI Phase 2 Center PIs and Co-Investigators will take approximately 45 minutes each. Interviews with CCI Center Industry Partners will take approximately 20 minutes each.

Fewer than 25 CCI Phase 2 Center PIs and Co-Investigators will receive requests to complete both a survey and an interview.

Respondents: Individuals.

Estimated Number of Respondents: 472 hours.

Estimated Total Annual Burden on Respondents: 472 hours.

Frequency of Responses: Single data collection.

Dated: May 15, 2018.
Suzanne H. Plimpton,
Reports Clearance Officer, National Science Foundation.

[FR Doc. 2018-10623 Filed 5-17-18; 8:45 am]

BILLING CODE 7555-01-P